DEPARTMENT OF TRANSPORTATION

Federal Aviation Administration

14 CFR Part 39

[Docket No. FAA-2012-1000; Directorate Identifier 2012-NM-065-AD; Amendment 39-17460; AD 2013-10-07]

RIN 2120-AA64

Airworthiness Directives; Airbus Airplanes

AGENCY: Federal Aviation Administration (FAA), Department of Transportation (DOT).

ACTION: Final rule.

SUMMARY: We are adopting a new airworthiness directive (AD) for all Airbus Model A300 B4-601, B4-603, B4-620, B4-605R, and B4-622R airplanes. This AD was prompted by a report that the door frame shells of passenger doors 2 and 4 may not have sufficient structural strength to enable the airplane to operate safely. This AD requires reinforcing the door frame shells of passenger doors 2 and 4 on both sides of the fuselage. We are issuing this AD to prevent structural failure of the door frame shells, which could result in in-flight decompression of the airplane and consequent injury to passengers.

DATES: This AD becomes effective July 5, 2013.

The Director of the Federal Register approved the incorporation by reference of a certain publication listed in this AD as of July 5, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to include an AD that would apply to the specified products. That NPRM was published in the Federal Register on September 24, 2012 (77 FR 58785). That NPRM proposed to correct an unsafe condition for the specified products. The Mandatory Continuing Airworthiness Information (MCAI) states:

As a result of the Extended Service Goal 2 exercise (ESG2) it was shown that the door frame shells of passenger doors 2 and 4 (both sides of the aeroplane) may not have sufficient structural strength to enable the aeroplane to operate safety beyond ESG1 (Extended Service Goal 1 equal to 42,500 Flight Cycles—FC or 89,000 Flight Hours—FH) and up to ESG2 (Extended Service Goal 2 equal to 51,000 FC or 89,000 FH) limits.

This condition, if not corrected, could lead to structural failure of the affected door shells, possibly resulting in in-flight decompression of the aeroplane and consequent injury to occupants.

For the reasons stated above, this [European Aviation Safety Agency (EASA)] AD requires the reinforcement at door frame shells of passenger doors 2 and 4.

You may obtain further information by examining the MCAI in the AD docket.

Comments

We gave the public the opportunity to participate in developing this AD. We have considered the comments received.

Request for a Copy of the Service Information

FedEx requested that copies of Airbus Service Bulletin A300-53-6170, dated May 16, 2011, be provided to understand the full intent of the modification. FedEx stated that copies of Airbus Service Bulletin A300-53-6170, dated May 16, 2011, are not available to operators without paying for the modification kit for ESG-2 operations.

As stated in the NPRM (77 FR 58785, September 24, 2012), copies of the referenced service information may be reviewed at the FAA, Transport Airplane Directorate, 1601 Lind Avenue SW., Renton, WA. No change has been made to the AD in this regard. After publication of the final rule, you may examine the AD docket on the Internet at http://www.regulations.gov; or in person at the Docket Operations office between 9 a.m. and 5 p.m., Monday through Friday, except Federal holidays.

Request for Exception for Certain Passenger Doors

FedEx requested an exception for the passenger door 2 on airplanes modified from passenger to freighter per supplemental type certificate (STC) ST01431NY* (http://rgl.faa.gov/Regulatory_and_Guidance_Library/rgstc.nsf/0/9F0C4BC1162AA3CE862571B2005F355C?OpenDocument&Highlight=st01431ny). FedEx stated that the passenger door 2 has been removed from the modified airplanes to install the upper deck cargo door in these positions. FedEx noted that applicability to the remaining door 4 would remain in effect.

We disagree with the commenter's request. Operators should work with the STC holder to evaluate and determine what actions might be necessary to address the unsafe condition if it exists. Operators may request approval of an alternative method of compliance to address this evaluation. No change has been made to the AD in this regard.

Conclusion

We reviewed the available data, including the comments received, and determined that air safety and the public interest require adopting the AD as proposed, except for minor editorial changes. We have determined that these minor changes:

• Are consistent with the intent that was proposed in the NPRM (77 FR 58785, September 24, 2012) for correcting the unsafe condition; and

• Do not add any additional burden upon the public than was already proposed in the NPRM (77 FR 58785, September 24, 2012).

Costs of Compliance

We estimate that this AD will affect 124 products of U.S. registry. We also estimate that it will take about 400 work-hours per product to comply with the basic requirements of this AD. The average labor rate is $85 per work-hour. Required parts will cost about $10,000 per product. Where the service information lists required parts costs that are covered under warranty, we have assumed that there will be no charge for these parts. As we do not control warranty coverage for affected parties, some parties may incur costs higher than estimated here. Based on these figures, we estimate the cost of this AD to the U.S. operators to be $5,456,000, or $44,000 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 58785, September 24, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-10-07 Airbus: Amendment 39-17460. Docket No. FAA-2012-1000; Directorate Identifier 2012-NM-065-AD.

(a) Effective Date

This airworthiness directive (AD) becomes effective July 5, 2013.

(b) Affected ADs

None.

(c) Applicability

This AD applies to Airbus Model A300 B4-601, B4-603, B4-620, B4-605R, and B4-622R airplanes; certificated in any category; all serial numbers.

(d) Subject

Air Transport Association (ATA) of America Code 53, Fuselage.

(e) Reason

This AD was prompted by a report that the door frame shells of passenger doors 2 and 4 may not have sufficient structural strength to enable the airplane to operate safely. We are issuing this AD to prevent structural failure of the door frame shells, which could result in in-flight decompression of the airplane and consequent injury to passengers.

(f) Compliance

You are responsible for having the actions required by this AD performed within the compliance times specified, unless the actions have already been done.

(g) Reinforcement

Before the accumulation of 42,500 total flight cycles or within 2,000 flight cycles after the effective date of this AD, whichever occurs later: Do the actions specified in paragraph (g)(1) or (g)(2) of this AD, as applicable.

(1) For Model A300 B4-622R airplanes: Reinforce the door frame shells of passenger doors 2 and 4 on both sides of the fuselage, in accordance with the Accomplishment Instructions of Airbus Service Bulletin A300-53-6170, dated May 16, 2011.

(2) For Model A300 B4-601, B4-603, B4-620, and B4-605R airplanes: Reinforce the door frame shells of passenger doors 2 and 4 on both sides of the fuselage, using a method approved by either the Manager, International Branch, ANM-116, Transport Airplane Directorate, FAA; or the European Aviation Safety Agency (EASA) (or its delegated agent).

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA Airworthiness Directive 2012-0044, dated March 23, 2012; and Airbus Service Bulletin A300-53-6170, dated May 16, 2011; for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A300-53-6170, dated May 16, 2011.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 16, 2013.
Ali Bahrami,
Manager, Transport Airplane Directorate, Aircraft Certification Service.

[FR Doc. 2013-12515 Filed 5-29-13; 8:45 am]

BILLING CODE 4910-13-P